DEPARTMENT OF COMMERCE

International Trade Administration

Announcement of Approved International Trade Administration Trade Mission

AGENCY: International Trade Administration, Department of Commerce.

SUMMARY: The United States Department of Commerce, International Trade Administration (ITA), is announcing one upcoming trade mission that will be recruited, organized, and implemented by ITA.

FOR FURTHER INFORMATION CONTACT: Jeffrey Odum, Events Management Task Force, International Trade Administration, U.S. Department of Commerce, 1401 Constitution Avenue NW, Washington, DC 20230; telephone: (202) 482-6397 or email Jeffrey.Odum@trade.gov.

SUPPLEMENTARY INFORMATION:

This mission is:

Clean EDGE (Enhancing Development and Growth through Clean Energy) and Environmental Technologies Business Development Mission to India—March 4-11, 2024.

A summary of the mission is found below. Application information and more detailed mission information, including the commercial setting and sector information, can be found at the trade mission website: https://www.trade.gov/trade-missions.

For each mission, recruitment will be conducted in an open and public manner, including publication in the Federal Register, posting on the Commerce Department trade mission calendar (https://www.trade.gov/trade-missions-schedule) and other internet websites, press releases to general and trade media, direct mail, broadcast fax, notices by industry trade associations and other multiplier groups, and publicity at industry meetings, symposia, conferences, and trade shows.

The Following Conditions for Participation Will Be Used for the Mission

Applicants must submit a completed and signed mission application and supplemental application materials, including adequate information on their products and/or services, primary market objectives, and goals for participation that is adequate to allow the Department of Commerce to evaluate their application. If the Department of Commerce receives an incomplete application, the Department of Commerce may either: reject the application, request additional information/clarification, or take the lack of information into account when evaluating the application. If the requisite minimum number of participants is not selected for a particular mission by the recruitment deadline, the mission may be cancelled.

Each applicant must also certify that the products and services it seeks to export through the mission are either produced in the United States, or, if not, are marketed under the name of a U.S. firm and have at least fifty-one percent U.S. content by value. In the case of a trade association or organization, the applicant must certify that, for each firm or service provider to be represented by the association/organization, the products and/or services the represented firm or service provider seeks to export are either produced in the United States or, if not, marketed under the name of a U.S. firm and have at least 51% U.S. content.

A trade association/organization applicant must certify and agree to the above for every company it seeks to represent on the mission. In addition, each applicant must:

• Certify that the products and services that it wishes to market through the mission would be in compliance with U.S. export controls and regulations;

• Certify that it has identified any matter pending before any bureau or office in the Department of Commerce;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

In the case of a trade association/organization, the applicant must certify that each firm or service provider to be represented by the association/organization can make the above certifications.

The Following Selection Criteria Will Be Used for the Mission

Targeted mission participants are U.S. firms, services providers and trade associations/organizations providing or promoting U.S. products and services that have an interest in entering or expanding their business in the mission's destination country. The following criteria will be evaluated in selecting participants:

• Suitability of the applicant's (or in the case of a trade association/organization, represented firm's or service provider's) products or services to these markets;

• The applicant's (or in the case of a trade association/organization, represented firm's or service provider's) potential for business in the markets, including likelihood of exports resulting from the mission; and

• Consistency of the applicant's (or in the case of a trade association/organization, represented firm's or service provider's) goals and objectives with the stated scope of the mission. Balance of company size and location may also be considered during the review process.

Referrals from a political party or partisan political group or any information, including on the application, containing references to political contributions or other partisan political activities will be excluded from the application and will not be considered during the selection process. The sender will be notified of these exclusions. The Department of Commerce will evaluate applications and inform applicants of selection decisions on a rolling basis until the maximum number of participants has been selected.

Definition of Small- and Medium-Sized Enterprise

For purposes of assessing participation fees, an applicant is a small or medium-sized enterprise (SME) if it qualifies as a “small business” under the Small Business Administration's (SBA) size standards (https://www.sba.gov/document/support--table-size-standards), which vary by North American Industry Classification System (NAICS) Code. The SBA Size Standards Tool (https://www.sba.gov/size-standards) can help you determine the qualifications that apply to your company.

Mission List: (additional information about trade missions can be found at https://www.trade.gov/trade-missions).

Clean EDGE (Enhancing Development and Growth Through Clean Energy) and Environmental Technologies Business Development Mission to India—March 4-11, 2024

Summary

The United States Department of Commerce, International Trade Administration (ITA), is organizing an executive-led Clean EDGE and Environmental Technologies Business Development Mission to India on March 4-11, 2024, with stops in Delhi and Mumbai. In addition to these stops, mission participants can select an optional additional stop in Hyderabad or Chennai. The additional optional stops will not be executive led.

The trade mission will support the U.S. vision to grow sustainable and secure clean energy markets in India by promoting U.S. exports and removing trade barriers. This trade mission will accelerate the adoption and deployment of energy and environmental solutions, helping India to meet its climate commitments. The trade mission builds on U.S. Secretary of Commerce Gina Raimondo's March 2023 trip to India to co-lead the U.S.-India Commercial Dialogue. This mission also supports ITA's ongoing efforts to strengthen the U.S.-India Comprehensive Global Strategic Partnership, develop inclusive and fair trade and investment policies, and leverage the interests of the private sector in pursuing new market opportunities that advance prosperity in both countries. The mission builds on several existing energy and environmental technology programs and events, including those organized under the Department of Commerce-led Clean EDGE U.S.-India Energy Industry Network.

Mission participants will have the opportunity to participate in meetings with key Indian decision makers to discuss how to foster policies, regulations, and financial investments that support the development of sustainable, secure, and clean energy markets, supporting the protection of human health and the environment. Mission participants will network with Indian national and state government officials, be introduced to prospective business partners, and facilitate discussions on best practices in their areas of technical expertise. Participants will gain market insights, make industry contacts, solidify business strategies, discuss enabling policies, and advance specific projects with the primary goal of increasing U.S. exports of clean energy and environmental technologies, products, and services to India. The mission will include customized one-on-one business matchmaking appointments and networking events. Participation in the trade mission will be open to energy sector and environmental technology businesses meeting the prerequisites for participation outlined in the Conditions of Participation below.

Following the mission, participants may want to take advantage of the India Smart Utility Week trade show held in Delhi on March 12-16, 2024. India Smart Utility Week is a major international event on smart grids, electric mobility, and smart cities. The trade show includes international participation from policy makers, regulators, and the private sector. Representatives from more than 50 countries have participated in previous years. The India Smart Utility Week trade show is not a part of the mission nor a Department of Commerce event.

Best Prospects

The below list, while not exhaustive, identifies key products, services, and technologies that would be an appropriate fit for the trade mission. ITA is committed to assembling a trade mission delegation that is representative of a broad range of energy and environmental technology sectors, with an emphasis on sectors that advance clean and sustainable energy and environment goals.

• Renewable power generation (solar, offshore wind, green hydrogen, etc.)

• Carbon abatement technologies for thermal power generation, including Carbon Capture, Utilization, and Storage (CCUS) technologies

• Energy efficiency technologies specific to the energy and environmental technologies sectors

• Distributed energy resources

• Microgrids

• Transmission and Distribution (T&D) equipment

• Smart grid information communications technologies and services

• Distribution automation/substation automation

• Energy storage technologies

• Supervisory Control and Data Acquisition (SCADA) systems

• Energy cybersecurity software and services

• Engineering, procurement, and construction for energy and environment-related infrastructure projects

• Energy management systems

• Air pollution monitoring and control technologies

• Water and wastewater management systems

• Waste-to-energy equipment

Other Products and Services

Applications from companies exporting products or services within the scope of this mission, but not specifically identified, will be considered and evaluated by the U.S. Department of Commerce. Companies whose products or services do not fit the scope of the mission may contact their local U.S. Commercial Service office to learn about other business development missions and services that may provide more targeted export opportunities. Companies may visit https://www.trade.gov/contact-us to obtain such information. This information also may be found on the website: https://www.trade.gov/.

Proposed Timetable

* Note: The final schedule and potential site visits will depend on the availability of host government and business officials, specific goals of mission participants, and ground transportation.

Monday, March 4, 2024 | • All Trade Mission Participants Arrive in DELHI.
Tuesday, March 5, 2024 | • Official Trade Mission Program Commences.
| • DELHI (Full Day Sessions).
| • Networking Reception.
Wednesday, March 6, 2024 | • DELHI (Full Day Sessions).
| • Travel to MUMBAI (Evening).
Thursday, March 7, 2024 | • MUMBAI (Full Day Sessions).
| • Networking Reception.
Friday, March 8, 2024 | • MUMBAI (Full Day Sessions).
| • Official Trade Mission Concludes.
Saturday, March 9, 2024 | • Companies participating in Spinoffs travel to next stop.
Sunday, March 10, 2024 | • Opportunities for Tourism.
| • Companies participating in Spinoffs travel to next stop.
Monday, March 11, 2024 | • SPINOFFS: HYDERABAD or CHENNAI (Full Day Sessions).

Participation Requirements

Applicants must sign and submit a completed trade mission application form and satisfy all the conditions of participation to be eligible for consideration. ITA plans to select a minimum of 15 and a maximum of 20 firms to participate in the official trade mission program. Business-to-business meetings will be offered and will include a total of 5-7 meetings in Delhi and Mumbai. A maximum number of companies has been set for each of the spinoff programs: Hyderabad-three company maximum; Chennai-ten company maximum.

Fees and Expenses

After a firm or trade association has been selected to participate in the mission, a payment to the Department of Commerce in the form of a participation fee is required. The participation fee for the Business Development Mission will be $4,093 for small or medium-sized enterprises (SME) and $6,276 for large firms. The fee for the additional program in Hyderabad is $950 for SMEs and $3,400 for large firms; the fee for the optional program in Chennai is $1,315 for SMEs and $1,818 for large firms or trade associations. The fee for each additional firm representative (large firm or SME) is $1000. Meetings will be conducted in English and ground transportation to meetings will be provided for delegation participants. Personal interpreters and driver services can be arranged for additional cost.

If and when an applicant is selected to participate on a particular mission, a payment to the Department of Commerce in the amount of the designated participation fee below is required. Upon notification of acceptance to participate, those selected have 5 business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event that a mission is cancelled, no personal expenses paid in anticipation of a mission will be reimbursed. However, participation fees for a cancelled mission will be reimbursed to the extent they have not already been expended in anticipation of the mission.

If a visa is required to travel on a particular mission, applying for and obtaining such a visa will be the responsibility of the mission participant. Government fees and processing expenses to obtain such a visa are not included in the participation fee. However, the Department of Commerce will provide instructions to each participant on the procedures required to obtain business visas.

Trade Mission members participate in trade missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/passports/en/alertswarnings.html. Any question regarding insurance coverage must be resolved by the participant and its insurer of choice.

Travel and in-person activities are contingent upon the safety and health conditions in the United States and the mission countries. Should safety or health conditions not be appropriate for travel and/or in-person activities, the Department will consider postponing the event or offering a virtual program in lieu of an in-person agenda. In the event of a postponement, the Department will notify the public and applicants previously selected to participate in this mission will need to confirm their availability but need not reapply. Should the decision be made to organize a virtual program, the Department will adjust fees accordingly, prepare an agenda for virtual activities, and notify the previously selected applicants with the option to opt-in to the new virtual program.

Timeframe for Recruitment and Applications

Mission recruitment will be conducted in an open and public manner, including publication in the Federal Register, posting on the Department of Commerce trade mission calendar (http://export.gov/trademissions) and other internet websites, press releases to general and trade media, direct mail, notices by industry trade associations and other multiplier groups, and publicity at industry meetings, symposia, conferences, and trade shows. Recruitment for the mission will begin immediately and conclude no later than October 20, 2023.

The Department of Commerce will review applications and inform applicants of selection decisions in two tranches. The first recruitment deadline will end on September 15, 2023. At most eight companies will be approved during the first recruitment deadline. The second deadline will be on October 20, 2023. Applicants from the first tranche that were not one of the eight approved companies will be considered in the second tranche. Applications received after October 20, 2023, will be considered only if space and scheduling constraints permit.

Contacts

Matthew Eiss, International Trade Specialist, Office of South Asia, Phone: +1-202-893-1470, Email: Matthew.Eiss@trade.gov

Frances Selema (Recruitment Lead), Global Asia Team Leader, U.S. Commercial Service—Greensboro, Phone: +1-919-695-6366, Email: Frances.Selema@trade.gov

Victoria Yue, Senior Climate Trade Policy Specialist, Office of Energy and Environmental Industries, Phone: +1-202-482-3492, Email: Victoria.Yue@trade.gov

Debra Martin, Commercial Officer, U.S. Embassy in India—New Delhi, Phone: +91-11-2347-2192, Email: Debra.Martin@trade.gov

Haisum Shah, Senior International Trade Specialist, U.S. Commercial Service—Portland, Oregon, Phone: +1-503-347-1708, Email: Haisum.Shah@trade.gov

Danielle Caltabiano, Global Energy Team Leader, U.S. Commercial Service—Houston, Phone: +1-281-228-5655, Email: Danielle.Caltabiano@trade.gov

Elizabeth Laxague, Global Environmental Technologies Team Leader, U.S. Commercial Service—Seattle, Phone: +1-206-406-8903, Email: Elizabeth.Laxague@trade.gov

Gemal Brangman,
Director, Trade Events Management Task Force.

[FR Doc. 2023-18225 Filed 8-23-23; 8:45 am]

BILLING CODE 3510-DR-P